DEPARTMENT OF ENERGY

Federal Energy Regulatory Commission

[Project No. 1864-016]

North Shore Concerned Citizens, Group of Lake Gogebic v. Upper Peninsula Power Company; Notice of Complaint

June 14, 2002.

Take notice that on May 2, 2002, the North Shore Concerned Citizens Group of Lake Gogebic (Concerned Citizens) filed a complaint pursuant to Rule 206 of the Commission's Rules of Practice and Procedure, 18 CFR 385.206 (2002), and Part I of the Federal Power Act, 16 U.S.C. 791, et seq., against Upper Peninsula Power Company, licensee of the Bond Falls Project No. 1864, located on the West Branch of the Ontonagon River in Ontonagon County, Michigan. Concerned Citizens alleges that Upper Peninsula is maintaining water level of the project reservoir at a level higher than the maximum permitted by the project's license. Copies of the complaint are on file with the Commission and are available for public inspection in the Commission's Public Reference Room. The complaint may also be viewed on the Internet at http://www.ferc.gov using the “RIMS” link, select “Docket#” and follow the instructions (call 202-208-2222 for assistance).

Upper Peninsula has been notified of the complaint. The licensee may file an answer to the complaint. Any person desiring to be heard or to protest this filing should file comments, a motion to intervene, or a protest with the Federal Energy Regulatory Commission, 888 First Street, NE., Washington, DC 20426, in accordance with Rules 211 and 214 of the Commission's Rules of Practice and Procedure (18 CFR 385.211 and 385.214). The licensee's answer and all comments, motions, or protests must be filed on or before June 25, 2002. Any entity wishing to become a party must file a motion to intervene. Comments, motions to intervene, and protests may be filed electronically via the internet in lieu of paper. See 18 CFR 385.2001(a)(1)(iii), and the instructions on the Commission's web site under the “e-filing” link.

Linwood A. Watson, Jr.,
Deputy Secretary.

[FR Doc. 02-15702 Filed 6-20-02; 8:45 am]

BILLING CODE 6717-01-P